DEPARTMENT OF VETERANS AFFAIRS

[OMB Control No. 2900-New (NCA Survey)]

Agency Information Collection: Emergency Submission for OMB (Statement in Support of Claim (National Cemetery Administration Survey of Satisfaction With National Cemeteries)) Review; Comment Request

AGENCY: Veterans Benefits Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). The reason for the emergency clearance is to ensure that VA National Cemeteries have the appropriate customer data available on cemetery service and appearance to ensure its operations continue to meet and exceed the expectations of veterans and their families. This is the only external source of input VA receives on cemeteries regarding its level of service to veterans. OMB has been requested to act on this emergency clearance request by June 26, 2009.

DATES: Comments must be submitted on or before June 12, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-New (NCA Survey)” in any correspondence

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (NCA Survey).”

SUPPLEMENTAL INFORMATION: Title: Statement in Support of Claim (National Cemetery Administration Survey of Satisfaction with National Cemeteries).

OMB Control Number: 2900-New (NCA).

Type of Review: New collection.

Abstract: The National Cemetery Administration annually surveys veterans, next of kin and funeral directors to collect information needed to improve established standards for the best possible customer-focused service. If the surveys were not conducted, the organization would be unable to comply with the Executive Order 12862, and would not have the information needed to improve established standards for the best possible customer-focused service. NCA will use the information gathered to determine where and to what extent services are satisfactory, and where and to what extent they are in need of improvement. The information may lead to policy changes to improve overall operations.

Affected Public: Individuals and Households.

Estimated Annual Burden: 6,334 hours.

Estimated Average Burden per Respondent: 20 minutes.

Frequency of Response: On occasion.

Estimated Number of Respondents: 19,000.

Dated: June 2, 2009.
By direction of the Secretary.
Denise McLamb,
Program Analyst, Enterprise Records Service.

[FR Doc. E9-13128 Filed 6-4-09; 8:45 am]

BILLING CODE 8320-01-P